DEPARTMENT OF THE TREASURY

Internal Revenue Service

Open meeting of the Taxpayer Advocacy Panel Earned Income Tax Credit Issue Committee

AGENCY: Internal Revenue Service (IRS), Treasury.

ACTION: Notice; correction.

SUMMARY: This document contains a correction to a notice on an open meeting of the Taxpayer Advocacy Panel Earned Income Tax Credit Issue Committee being conducted in Atlanta, Georgia, which was published in the Federal Register on Monday, April, 21, 2003 (68 FR 19605).

FOR FURTHER INFORMATION CONTACT: Marisa Knispel at 1-888-912-1227, or 718-488-3557.

Need for Correction

As published, this notice of an open meeting of the taxpayer advocacy panel earned income tax credit issue committee contains errors which may prove to be misleading and are in need of clarification.

Correction of Publication

Accordingly, the publication of the notice of an open meeting of the taxpayer advocacy panel earned income tax credit issue committee which is the subject of FR Doc. 03-9779 is corrected as follows:

1. On page 19605, column 2, under the caption DATES, the language “The meeting will be held Wednesday, May 7 and Thursday, May 8, 2003.” is corrected to read “The meeting will be held on Thursday, May 8, 2003.”.

2. On page 19605, column 2, under the caption SUPPLEMENTARY INFORMATION, lines 8 and 9, the language “Wednesday, May 7 and Thursday, May 8, 2003” is corrected to read “Thursday, May 8, 2003”.

Cynthia Grigsby,
Chief, Regulations Unit, Associate Chief Counsel, (Procedure and Administration).

[FR Doc. 03-10900 Filed 4-29-03; 2:43 pm]

BILLING CODE 4830-01-P